CORPORATION FOR NATIONAL AND COMMUNITY SERVICE

Notice of Policy Guidance on Title VI's Prohibition Against National Origin Discrimination as it Affects Limited English Proficient Persons

AGENCY: Corporation for National and Community Service.

ACTION: Notice of policy guidance.

SUMMARY: The Corporation for National and Community Service (Corporation) is publishing policy guidance on Title VI's prohibition against national origin discrimination as it affects limited English proficient persons. This policy clarifies the existing responsibilities of Corporation grantees to take reasonable steps to provide access to their programs and activities for persons with limited English proficiency. This document provides an opportunity for public comment. The Corporation will review all comments and will determine what modifications to the policy guidance, if any, are necessary.

DATES: This guidance is effective immediately. Comments must be submitted on or before March 19, 2001.

ADDRESSES: Interested persons should submit written comments to Ms. Wilsie Y. Minor, Associate General Counsel, Corporation for National Service, 1201 New York Ave., NW., Washington, DC 20525. Comments may also be submitted by facsimile at 202-565-2796.

FOR FURTHER INFORMATION CONTACT: Wilsie Y. Minor, Corporation for National Service, 1201 New York Ave., NW., Washington, DC 20525. Telephone 202-606-5000, ext. 129; TDD: 202-565-2799. Arrangements to receive the policy in an alternative format may be made by contacting Wilsie Y. Minor.

SUPPLEMENTARY INFORMATION: Title VI of the Civil Rights Act of 1964, 42 U.S.C. 2000d, et seq., and its implementing regulations provide that no person shall be subjected to discrimination on the basis of race, color, or national origin under any program or activity that receives federal financial assistance.

The purpose of this policy guidance is to clarify the responsibilities of recipients of federal financial assistance from the Corporation for National and Community Service (Corporation) (“grantees”), and assist them in fulfilling their responsibilities to limited English proficient (LEP) persons, pursuant to Title VI of the Civil Rights Act of 1964 and implementing regulations. The policy guidance reiterates the Corporation's longstanding position that in order to avoid discrimination against LEP persons on the grounds of national origin, grantees must take reasonable steps to ensure that such persons have meaningful access to the programs, services, and information those grantees provide, free of charge.

The text of the complete guidance document follows:

Providing Access to Limited-English Proficient (LEP) Persons to the Programs and Activities of Grantees of the Corporation for National Service

A. Overview

1. What Does the Document Do?

This policy guidance does not create new obligations but rather clarifies the existing responsibilities of Corporation for National Service (hereinafter Corporation) grantees to take reasonable steps to provide access to their programs and activities for persons with limited English proficiency (LEP). This document:

(a) Discusses the policies, procedures and other steps that Corporation grantees can take to provide access by LEP persons to national service programs and to other programs and activities of our grantees.

(b) Clarifies that failure to take one or more of these steps does not necessarily mean noncompliance with Title VI of the Civil Rights Act of 1964 or with Executive Order 13166.

(c) Provides that the Corporation's Equal Opportunity (EO) Office will determine compliance on a case-by-case basis, and that assessments will take into account:

• Number or proportion of LEP individuals in the service area;

• Frequency of contact with LEP language groups;

• Nature and importance of the program or activity; and

• Total resources available to the recipient.

(d) Provides that small grantees and those with limited resources will have flexibility in achieving compliance.

(e) Applies to all beneficiaries of our grantees' programs or activities.

In this document, “beneficiary” refers to:

• Clients, former clients, and client applicants of a grantee's programs or activities;

• Members of the public who receive or are eligible to receive benefits or services from our grantees; and

Participants, former participants, and participant applicants for positions as a service member or volunteer.

Our grantees' programs or activities include:

• Federally assisted programs such as AmeriCorps*State/National;

• Part-time programs such as Foster Grandparents or participants in Learn and Serve America; and

• Part federally-conducted/part federally-assisted programs such as AmeriCorps*VISTA or AmeriCorps*NCCC.

Our grantees' programs or activities include not merely the national service programs operated by the grantees, but in most cases they include all operations of the organization. (See Legal Underpinnings below for an explanation of a grantee's “programs and activities”.)

2. Why Do Our Grantees Need To Ensure Their Programs or Activities Provide Services to LEP Persons?

Grantees must comply with various civil rights statutes, including Title VI of the Civil Rights Act of 1964 which prohibits denial of services to and other forms of discrimination against persons on the basis of national origin, color, and race. Often, language identifies national origin. Language barriers may be rooted in intentional discrimination. Most frequently, failure to provide language assistance to LEP persons on the basis of national origin leads to actions having the effect of discrimination. Such actions have consistently been held to violate Title VI. (See Legal Underpinnings below for more information on Title VI, and on Executive Order 13166 which clarifies Title VI in the LEP context.)

English is the predominant language of the United States. According to the 1990 Census, English is spoken by 95% of its residents. Of the U.S. residents who speak languages other than English at home, the 1990 Census reports that 57% above the age of four speak English “well to very well.” However, the U.S. is also home to millions of national origin minority individuals who are “limited English proficient” (LEP). That is, they cannot speak, read, write or understand the English language at a level that permits them to interact effectively with teachers and education officials, health care providers, social service agency staff, police and emergency workers, officials of public benefit programs, etc.

Because of these language differences and their inability to speak or understand English, LEP persons are often excluded from programs, experience delays or denials of services, or receive care and services based on inaccurate or incomplete information. Federal agencies have found that persons who lack proficiency in English frequently are unable to obtain basic knowledge of how to access various benefits and services for which they are eligible. Agencies have also found that LEP persons are sometimes exploited by unscrupulous persons or unwittingly are pawns in frauds against benefit programs.

3. What Is Our Policy on Ensuring Our Grantees' Programs or Activities Provide Access to Their Services to LEP Persons?

It is our policy to ensure that our grantees fully comply with the requirements of the various civil rights acts and requirements applicable to federal grantees, including Title VI of the Civil Rights Act of 1964 and Executive Order 13166. One aspect of compliance is to ensure that our grantees take reasonable steps to provide meaningful access for LEP persons to their program or activities, including provision of language interpretive services within the parameters set forth in this policy document.

B. Legal Underpinnings of This Policy

1. What Are the Basic Requirements Under Title VI in the LEP Context?

Title VI of the Civil Rights Act of 1964 (42 U.S.C. 2000-d) prohibits discrimination on the basis of race, color, or national origin in programs and activities that receive federal financial assistance. Recipients of federal financial assistance (referred to as “grantees” in this policy) may not, on the basis of race, color, or national origin:

• Provide services, financial aid, or other benefits that are different or provide them in a different manner;

• Restrict an individual's enjoyment of an advantage or privilege enjoyed by others;

• Deny an individual the right to participate in federally assisted programs; and

• Defeat or substantially impair the objectives of federally assisted programs.

A grantee whose policies, practices or procedures exclude, limit, or have the effect of excluding or limiting, the participation of any LEP person in a federally assisted program or activity on the basis of national origin may be engaged in discrimination in violation of Title VI. In order to ensure compliance with Title VI, grantees must take reasonable steps to ensure that LEP persons who are eligible for their programs or activities have access to the services they provide. The most important step in meeting this obligation is for grantees to provide the language assistance necessary to ensure such access and to do so at no cost to the LEP person.

2. What Does Executive Order 13166 Require in the LEP Context? Does It Impose Requirements Beyond Those of Title VI?

On August 11, 2000, the President issued Executive Order 13166 entitled “Improving Access to Services for Persons with Limited English Proficiency.” The purpose of this Executive Order is to eliminate, to the maximum extent possible, limited English proficiency as an artificial barrier to full and meaningful participation by beneficiaries in federally assisted programs and activities. It clarifies existing Title VI responsibilities for grantees regarding access for LEP persons, but does not impose additional requirements. On August 16, 2000, the Department of Justice issued policy guidance which may be found at 65 Fed.Reg. 50123 or www.usdoj.gov/crt/cor.

3. Who Are Grantees? What Is Federal Financial Assistance?

In this document, a grantee is any entity receiving federal financial assistance from us to operate a federally assisted program. Grantees include, but are not limited to, the State Commissions, AmeriCorps*VISTA and Senior Corps sponsors, State Educational Agencies, and AmeriCorps*NCCC projects. Grantees also include other direct recipients, service sites and intermediary service programs (entities between the primary grantee and the service sites).

For example, the Corporation funds a grant to a state agency. The state agency provides funding to non-profits or local governments throughout the state. These organizations place volunteers with local organizations. Each level is a grantee for civil rights purposes.

Federal financial assistance includes funds, property or services, including technical assistance, provided to non-federal organizations to promote activities serving the public interest. For civil rights purposes, it also includes aid that enhances the ability to improve or expand allocation of a grantee's own resources. This may be through the services of, or training by, service members or volunteers or federal personnel at no cost or at less than full market value. Therefore, assignment of service members or volunteers (including VISTA or NCCC)—whether supported, in whole or in part, under a Corporation grant or through an Education Award Program—is a form of federal financial assistance.

The definition of the “program or activity” receiving federal financial assistance is quite broad and for most organizations extends beyond their national service program. For example, it includes all operations of a department, agency or district of a State or local government; a college, university, local education agency; and an entire corporation or private organization which is principally engaged in providing education, health care, housing, social services, or parks and recreation when any part of these entities receives federal financial assistance.

A grantee may receive financial assistance directly from us or through another grantee. A grantee may be a Native American tribe. While tribes have sovereign immunity in many respects, when they receive federal financial assistance, by the terms of the grant, they agree to comply with the civil rights requirements in the operation of their national service programs.

4. Who Are Beneficiaries? Why Are They Beneficiaries? What Rights Do They Have?

Service members and volunteers are beneficiaries of federally assisted programs. They receive a stipend, an allowance for living expenses, an education award or post-service stipend, child care or child care allowance, and/or health care coverage, or cost reimbursements paid in whole or in part, directly or indirectly, by the Corporation. Former service members or volunteers and service member and volunteer applicants are also beneficiaries as it relates to their connection to a national service program funded by the Corporation.

The persons served by the service members and volunteers (including AmeriCorps*NCCC members) are beneficiaries of federally assisted programs. They receive benefits, be it tutoring, housing, employment, or substance abuse counseling, immunizations, personal living assistance, etc. which they would not have but for the national service programs funded in whole or in part by the Corporation. Persons previously served or applying to be served by service members and volunteers are also beneficiaries.

The persons served, eligible to be served, or previously served by other programs and activities of the grantee are also beneficiaries of federally assisted programs. They receive benefits from a recipient of federal financial assistance, so by definition they are beneficiaries. Similarly, members of the public who receive or are eligible to receive benefits or services from our grantees are beneficiaries.

All beneficiaries of federal financial assistance have the right not to be subjected to prohibited discrimination. In the LEP context, this means they have the right to have the grantee take reasonable steps to provide meaningful access to its programs and activities to enable LEP persons to participate. All beneficiaries also have the right to file a discrimination complaint with the Corporation if he or she believes discrimination has occurred.

5. Can We Presume That Service Members or Volunteers Must Be Proficient in English?

No. Programs should assess whether individuals with limited English proficiency can effectively serve in their programs with or without language assistance. Programs may not deny access on the basis of lack of English proficiency unless providing language assistance would fundamentally alter the nature of their program or unreasonably burden the organization. There may be programs where the member or volunteer must be proficient in English, but in some of the Corporation's programs such as Senior Companions, limited English proficiency may not hinder the ability to serve. Individuals who speak the language of one of the minority groups within a community, even when they are LEP, may effectively help to serve the community.

6. If a Grantee Is Covered by a State or Local “English-only” Law, Must It Still Comply With the Title VI Obligation and Corporation Guidance Interpreting That Obligation?

Yes. State and local laws may provide additional obligations to serve LEP individuals, but cannot compel grantees to violate Title VI. For instance, given our constitutional structure, State or local “English-only” laws do not relieve an entity that receives federal funding or other financial assistance from its responsibilities under federal anti-discrimination laws. Entities in States and localities with “English-only” laws are certainly not required to accept federal funding—but if they do, they have to comply with Title VI, including its prohibition against national origin discrimination by recipients of federal assistance. Failing to make federally assisted programs and activities accessible to individuals who are LEP will, in certain circumstances, violate Title VI.

C. LEP Requirements

1. What Are the Basic Requirements Under Title VI for LEP Persons?

The basic requirement is to provide meaningful access for LEP persons to a grantee's programs and activities. There is no “one size fits all” solution for providing meaningful access, and our assessment of a grantee's compliance will be made on a case-by-case basis. A grantee will have considerable flexibility in determining precisely how to fulfill this obligation, and we will focus on the grantee's end result. The key to providing meaningful access is to ensure that the grantee and the LEP person can communicate effectively. Effective communication means the LEP person is:

• Able to understand the services and benefits available;

• Able to receive those benefits for which he or she is eligible; and

• Able to effectively communicate the relevant circumstances of his or her situation to the service provider.

The type of language assistance provided depends on a variety of factors, including:

• Number or proportion of LEP individuals in the service area;

• Frequency of contact with LEP language groups;

• Nature and importance of the program or activity; and

total resources available to the recipient.

2. What Are the Basic Elements of an Effective Language Assistance Program?

Effective language assistance programs usually contain four elements:

• Assessment;

• Comprehensive written policy;

• Staff training; and

• Monitoring.

Failure to incorporate or implement one or more elements does not necessarily mean noncompliance with Title VI, and we will focus on whether meaningful access is achieved. Further, if implementation of one or more accessibility options would be so financially burdensome as to defeat the legitimate objectives of a grantee's program, the grantee will not be found in noncompliance with Title VI.

3. How Does a Grantee Assess the Language Needs of the Affected Population (the First Key for Ensuring Meaningful Access to LEP Persons)?

A grantee assesses language needs by considering a variety of factors, including the total resources and size of the recipient/covered entity, the number or proportion of the eligible LEP population it serves, the nature and importance of the program or service, including the objectives of the program, the total resources available to the recipient/covered entity, and the frequency with which particular languages are encountered and the frequency with which LEP persons come into contact with the program.

Assessing the number or proportion of the eligible LEP population may be done through review of census data, client utilization data from client files, data from local school systems and community agencies and organizations, or other sources. Grantees are encouraged to identify local organizations that serve the LEP populations in their community. Collaborations with these organizations may not only assist in assessing language needs, but may improve outreach to and recruitment from the communities they serve.

4. What Should Be Included in a Comprehensive Written Policy and Procedures on Language Access (the Second Key for Ensuring Meaningful Access to LEP Persons)?

Presuming the assessment reveals more than merely a few LEP persons being served or eligible to be served or likely to be directly affected by the program, a grantee should develop and implement a language assistance policy, including implementation procedures. The policy should be comprehensive and should be in writing. It should address periodic staff training and monitoring the effectiveness of the program. Ideally, a range of oral language assistance options should be included, and it should provide for translation of vital written materials in certain circumstances. (See D.2.)

The implementation procedures should be comprehensive, should be in writing, and should include:

• How to identify and assess the language needs of LEP persons, and to record this information in individual client files, as applicable;

• How to notify LEP persons, in a language they can understand, of their right to receive free language assistance;

• Identify where in the program or activity language assistance is likely to be needed;

• Identify what resources are likely to be needed, their location, and their availability;

• How to access these resources to provide language assistance in a timely manner.

5. How Does a Grantee Effectively Train Its Staff Regarding the Policy and Procedures (the Third Key for Ensuring Meaningful Access to LEP Persons)?

A grantee must disseminate its policy to all employees, especially to those likely to have contact with LEP persons. It must also periodically train its employees. Effective training ensures that employees are knowledgeable and aware of LEP policies and procedures, are trained to work effectively with in-person and telephone interpreters, and understand the dynamics of interpretation between clients, providers and interpreters. Training should be part of the orientation for new employees, and all employees in client contact positions need to receive additional training. For AmeriCorps*State/National grantees, State Commissions request Professional Development and Training Funds (PDAT) funds to provide professional development and training for AmeriCorps staff. To support the LEP initiatives, funds might be used for activities that train AmeriCorps staff about best practices for working with LEP members, and for building the language capacity of LEP AmeriCorps members.

6. How Does a Grantee Effectively Monitor and Evaluate Its Language Assistance Program To Ensure It Provides Meaningful Access to LEP Persons (the Fourth Key for Ensuring Meaningful Access to LEP Persons)?

A grantee should monitor its language assistance program at least annually. As part of the monitoring, the grantee should seek feedback from clients and advocates. The monitoring and evaluation should:

• Assess the current LEP makeup of its service area and frequency of contact with LEP language groups;

• Assess the current communication needs of LEP applicants and clients;

• Determine whether existing assistance is meeting the needs of such persons;

• Evaluate whether staff is knowledgeable about the policy and procedures and how to implement them; and

• Determine whether sources of and arrangements for assistance are still current and viable.

D. Specific LEP Implementation Methods, Their Pros and Cons

1. What Does a Grantee Need To Know About Providing Trained and Competent Interpreters?

Meaningful access to programs and activities includes providing trained and competent interpreters and other oral language assistance services in a timely manner. This may include taking some or all of the following steps:

• Bilingual Staff—Hire bilingual staff for critical direct client contact positions (such as emergency room intake personnel). Bilingual staff must be trained and must demonstrate competence as interpreters.

• Staff Interpreters—Hire paid staff interpreters, especially when there is a frequent and/or regular need for interpreting services. These persons must be competent and readily available.

• Contract Interpreters—Use contract interpreters, especially when there is an infrequent need for interpreting services, when less common LEP language groups are in the service areas, or when there is a need to supplement in-house capabilities on an as-needed basis. Contract interpreters must be readily available and competent.

• Community Volunteers—Use community volunteers. While volunteers may be cost-effective, to use them effectively, grantees must enter into formal arrangements for interpreting services with community organizations so the organizations are not subjected to ad hoc requests for assistance. Volunteers must be competent as interpreters and understand their obligation to maintain client confidentiality. Additional language assistance must be provided where competent volunteers are not readily available during all hours of service. (Note: Except in the conditions explained at the end of this section, use of family member volunteers, especially children, is never appropriate, and, even if a child speaks English, the parent must be able to fully understand in order to provide informed consent for medical services or participation in program activities.)

• Telephone Interpreter Lines—Utilize a telephone interpreter service line, as a supplemental system or when a grantee encounters a language that it cannot otherwise accommodate. Such a service often offers interpreting assistance in many different languages and usually can provide the service in quick response to a request. However, the interpreters may not be familiar with the terminology peculiar to the particular program or service. (Note: this should not be the only language assistance option used, except where other language assistance options are unavailable (e.g., in a rural clinic visited by an LEP patient who speaks a language that is not usually encountered in the area).)

In order to provide effective services to LEP persons, a grantee must ensure that it uses persons who are competent to provide interpreter services. Competency does not necessarily mean formal certification as an interpreter, though certification is helpful, but competency requires more than self-identification as bilingual. The competency requirement contemplates:

• Demonstrated proficiency in both English and the other language;

• Orientation and training that includes the skills and ethics of interpreting (e.g. issues of confidentiality);

• Fundamental knowledge in both languages of any specialized terms or concepts peculiar to the grantee's program or activity;

• Sensitivity to the LEP person's culture; and

• A demonstrated ability to accurately convey information in both languages.

A grantee may expose itself to liability under Title VI if it requires, suggests, or encourages an LEP person to use friends, minor children, or family members as interpreters, as this could compromise the effectiveness of the service. Use of such persons could result in a breach of confidentiality or reluctance on the part of individuals to reveal personal information critical to their situations. In a medical setting, this reluctance could have serious, even life threatening, consequences. In addition, family and friends usually are not competent to act as interpreters, since they are often insufficiently proficient in both languages, unskilled in interpretation, and unfamiliar with specialized terminology.

If, after a grantee informs an LEP person of the right to free interpreter services, the person declines such services and requests the use of a family member or friend, the grantee may use the family member or friend, if the use of such a person would not compromise the effectiveness of services or violate the LEP person's confidentiality. The grantee should document the offer and declination in the LEP person's file. Even if an LEP person elects to use a family member or friend, the grantee should suggest that a trained interpreter sit in on the encounter to ensure accurate interpretation.

2. What Does a Grantee Need to Know About Providing Translation of Written Materials?

An effective language assistance program may include providing translation of certain written materials. For instance, written materials routinely provided in English to applicants, clients and the public should be available in regularly encountered languages other than English. Spanish, Chinese, Vietnamese, Tagalog, and Korean are the major languages spoken by non-English speaking persons in the U.S. It is particularly important to ensure that vital documents are translated into the non-English language of each regularly encountered LEP group eligible to be served or likely to be directly affected by the grantee's program. Examples of vital documents include:

• Applications for benefits or services;

• Consent forms;

• Documents containing important information regarding participation in a program (such as descriptions of eligibility for tutoring, assignment of a Senior Companion, instructions for filing for reimbursement of expenses, application for health care or child care benefits);

• Notices pertaining to the reduction, denial or termination of services or benefits, or to the right to appeal such actions or that require a response from beneficiaries;

• The member contract, job description, and an explanation of the Grievance Procedure;

• Notices advising LEP persons of the availability of free language assistance; and

• Other outreach materials.

In contrast, documents prepared for a selected portion of the public, such as laws, regulations, and detailed policy manuals, may not be a priority for translation and perhaps only short summaries of the contents are needed.

When making decisions about doing written translation of documents, it is important to consider the level of literacy in the ethnic community's first language. If a document is translated in writing for a community with high rates of first language illiteracy, access for LEP individuals may still be denied. Meaningful access may require making the information available in an oral format.

It is important to ensure that the person translating the materials is well qualified. Verbatim translations may not accurately or appropriately convey the substance of what is contained in the written materials. An effective way to address this potential problem is to reach out to community-based organizations to review translated materials to ensure that they are accurate and easily understood by LEP persons. Recent technological advances have made it easier to store translated documents. It is advisable to maintain a data base of translated documents, to avoid the cost and time of repeated translations of the same document.

3. Is Corporation Funding Available to Assist With the Cost of Translation?

The cost of translation may be an allowable cost of a grant.

Grant funds are not available for AmeriCorps*NCCC project sponsors.

4. What Does a Grantee Need to Know About Effectively Notifying LEP Persons of Their Right to Language Assistance and of the Availability of Language Assistance Free of Charge?

For a language assistance program to be effective, LEP persons need to know they have the right to receive language assistance, and that the language assistance will be provided at no charge to them. Effective notification methods include, but are not limited to:

• Posting and maintaining signs in regularly encountered languages other than English in waiting rooms, reception areas and other initial points of entry. In order to be effective, these signs must inform applicants and beneficiaries of their right to free language assistance services and invite them to identify themselves as persons needing such services.

• Including statements about the services available and the right to free language assistance services, in appropriate non-English languages, in brochures, booklets, outreach and recruitment information and other materials that are routinely disseminated to the public.

• Providing this information to advocacy organizations, faith-based organizations, and societies providing services to LEP persons in the community.

5. What Other Innovative Methods Are There To Provide Meaningful Access to LEP Persons?

• Simultaneous Translation—This allows a grantee and client to communicate using wireless remote headsets while a trained competent interpreter, located in a separate room, provides simultaneous interpreting services. The interpreter can be miles away, and thereby reduces delays since the interpreter does not have to travel to the grantee's facility. In addition, a grantee that operates more than one facility can deliver interpreter services to all facilities using this central bank of interpreters, as long as each facility is equipped with the proper technology.

• Language Banks—In several parts of the country, both urban and rural, community organizations and providers have created community language banks that train, hire and dispatch competent interpreters to participating organizations, reducing the need to have on-staff interpreters for low demand languages. These language banks are frequently nonprofit and charge reasonable rates. This approach is particularly appropriate where there is a scarcity of language services or where there is a large variety of language needs.

• Language Support Office—This is an office that tests and certifies all in-house and contract interpreters, provides agency-wide support for translation of forms, client mailings, publications and other written materials into non-English languages, and monitors the policies of the agency and its vendors that affect LEP persons.

• Multicultural Delivery Project—This is a project that finds interpreters for immigrants and other LEP persons. It uses community outreach workers to work with LEP clients and can be used by employees in solving cultural and language issues. A multicultural advisory committee helps to keep the county in touch with community needs.

• Pamphlets—The pamphlets are intended to facilitate basic communication between clients and staff as they await receipt of interpreter services. They are not intended to replace interpreters but may aid in increasing the comfort level of LEP persons as they wait for services.

E. Compliance Monitoring

1. By What Mechanisms Does the Corporation Ensure its Grantees Comply With These LEP Requirements?

The Corporation uses or may use a variety of mechanisms to monitor compliance with civil rights requirements, including LEP requirements, by its grantees. These include review of grant application submissions, pre-award and/or post-award compliance reviews (desk audit or on-site), discrimination complaint investigations, and information gathered during outreach and technical assistance activities. Other federal agencies often provide far more monetary federal assistance to its grantees than does the Corporation. Each federal agency extending federal financial assistance maintains mechanisms to ensure compliance with Title VI and its implementing regulations. Compliance determinations by larger federal agencies are given great weight by the Corporation, and grantees receiving substantial federal financial assistance from agencies such as the U.S. Department of Health and Human Services, the U.S. Department of Education, the U.S. Department of Veteran's Affairs, the U.S. Department of Justice, and the U.S. Department of Housing and Urban Development should make sure to be familiar with the Title VI enforcement mechanisms of all federal agencies. If the Corporation receives a complaint alleging failure to provide effective access to LEP persons, we may refer it for processing to a larger federal agency who also funds the grantee. However, under these circumstances, we maintain our authority to independently determine a grantee's compliance.

2. What Can Happen to a Grantee if Its Actions Are Determined by the Corporation's EO Office To Be Discriminatory?

The Corporation is obligated to take appropriate action regarding any grantee that does not comply with the civil rights laws, implementing regulations and policies. If the Equal Opportunity Director finds that a grantee has discriminated, it is in noncompliance with the civil rights laws. If the grantee refuses to voluntarily correct the noncompliance, the Corporation may pursue a number of options, including suspension, termination or the discontinuation of aid. The ultimate sanction may be termination of all federal funding to the program or activity.

However, the purpose of the civil rights laws is to achieve compliance with the laws, not to terminate federal funding to programs. Therefore, we make great efforts to encourage our grantees to voluntarily comply with the laws.

3. What Responsibilities and Liabilities Do Primary Grantees Have When a Subgrantee Discriminates?

A primary grantee extends federal financial assistance to subgrantees. A primary grantee has continuing oversight responsibilities for ensuring the operations of each of its subgrantees comply with the civil rights laws. When reviewing grant proposals, the primary grantee should consider whether applicants for subgrants have identified a means for providing access to LEP persons. During the term of the grant, the primary grantee should monitor the provision of meaningful access in the same manner that it monitors compliance with other grant provisions.

When a beneficiary claims a subgrantee has discriminated, the primary grantee should take action to bring the subgrantee into voluntary compliance, and take appropriate action when a subgrantee does not voluntarily comply. In cases of noncompliance, appropriate action may include but is not limited to:

• Providing relief to the beneficiary;

• Submitting reports of any internal investigation to our EO Director for review;

• Initiating action to terminate, suspend, or refuse to grant federal financial assistance to the discriminatory subgrantee; and

• Notifying our EO Director of the subgrantee's noncompliant status so our EO Office may take appropriate action, including notifying other federal granting agencies.

4. May Our EO Director Restore Compliant Status When a Grantee Remedies Violations?

Yes. Our EO Director may restore a grantee to compliant status if it satisfies terms and conditions established by the Corporation, or if it otherwise brings itself into compliance and provides reasonable assurance of future compliance.

Examples of Promising Practices That Provide Access to LEP Persons

The Association of Farmworker Opportunity Programs AmeriCorps program recruits former farmworkers to serve as AmeriCorps members. Most members are bilingual, and many are LEP. Members are encouraged to take English as a Second Language classes as a part of their member development plan. The program provides pesticide safety training to farmworkers and their families. Members conduct the training in Spanish.

The program uses the following techniques to ensure that members understand their terms of service and benefits:

□ Recruiting posters, flyers and the Member Service Contract are provided in Spanish.

□ AmeriCorps project staff are bilingual (Spanish/English).

□ Orientation training is provided in Spanish and English.

□ Conference calls are held in Spanish when all members speak Spanish.

□ Two bilingual second-year members led a team of members that communicated about their service projects exclusively in Spanish.

□ Members had to be bilingual, but did not require English as the first language.

□ Recruitment took place at the local field office level, and candidates were often from the farmworker community.

The Parents Making a Difference AmericCorps program recruits a diverse corps including many bilingual members to provide outreach to parents in low-income school communities. Members translate at parent-teacher conferences, call parents about absent children, and organize a wide variety of parent-oriented outreach and educational activities.

“Classroom in the Kitchen” gives parents tips on how to support the educational growth of their children in their homes. Diverse language abilities and cultural knowledge is extremely important in this regard. The range of English proficiency is varied, allowing members to help each other, and communication about program activities is largely bilingual.

The program provides English-Second-Language classes for LEP AmericCorps members as part of their Member Development Plan. (This language support is required by the Rhode Island Commission for all AmericCorps programs, in the same vein as the GED training requirement.)

The Temple University Center for Intergenerational Learning, Students Helping in the Naturalization of Elders (SHINE) program. SHINE is a national, multicultural, intergenerational service-learning initiative in five cities. College students provide language, literacy, and citizenship tutoring to elderly immigrants and refugees. Currently, students serve as coaches in ESL/citizenship classes or as tutors in community centers, temples, churches, housing developments, and ethnic organizations.

Northeastern University, San Francisco State University, Loyola University, Florida International University and Temple University are involved with SHINE. Students participate through courses, work study, and campus volunteer organizations. SHINE program coordinators partner with local community organizations; recruit, train, place, and monitor students at community sites; and provide support and technical assistance.

Since 1997, more than 60 faculty from education, social work, anthropology, political science, modern languages, sociology, English, Latino, and Asian studies have offered SHINE as a service-learning option in their courses. Over 1,000 students provided over 25,000 hours of instruction to 3,500 older learners at 37 sites in Boston, San Francisco, Chicago, Miami, and Philadelphia.

The Albuquerque Senior Companion Program (SCP), sponsored by the City of Albuquerque, Department of Senior Affairs, serves a diverse senior population with Native American, Hispanic, and Anglo volunteers. Senior Companions assist the frail elderly with household tasks and companionship.

Ten of its volunteer stations are located on Pueblos. Each Pueblo has its own language. The program works closely with its site managers/supervisors who are bilingual employees of the individual Pueblo governments and generally are residents of the Pueblos. Senior Companions serve on their own Pueblos and walk to the homes of their clients.

Due to language and cultural barriers these supervisors assist with all areas of the program. They are familiar with the population in their individual Pueblos and use this knowledge to assist with recruitment, placement, and training. Each Pueblo celebrates “Days of Feast” separately. In order to honor individual feasts, the program has adjusted the “leave time” for Pueblo volunteers. Each volunteer is given paid leave to celebrate his or her Pueblo's feast. This is one of the ways the program remains culturally sensitive.

ACCION International, a VISTA project sponsor, is a nonprofit that fights poverty through microlending. ACCION Chicago did outreach to home-based businesses that rarely have access to capital. A VISTA found that many of the women make ends meet through programs such as Mary Kay cosmetics. The VISTA worked with the ACCION loan officer to develop a loan product specifically for these women and has organized bilingual information sessions throughout Chicago neighborhoods.

Bring New Jersey Together is an AmeriCorps program in Jersey City, New Jersey that seeks to bridge the cultural and linguistic barriers separating new Americans from the rest of the community. AmeriCorps members serve LEP community members by translating documents and escorting them to places such as medical appointments, the grocery stores, or anywhere else where a translator may be necessary. The primary languages of the program are Spanish, Russian, and Vietnamese, but also Albanian, Creole, Indian languages, and others depending on the influx of refugees.

The New Jersey Commission built a partnership with the International Institute of New Jersey, which had provided services to the immigrant community for fifty years, to establish an AmeriCorps program that served the needs of the community. The best practice aspect of this example is that program was designed in partnership with an established organization instead of starting a brand new AmeriCorps project to address this issue.

The Honolulu Chinese Citizenship Tutorial Program is a service-learning project site in the Champus Compact National Center for Community Colleges “2+4=Service on Common Ground”. The University of Hawai'i at Monoa's College of Social Sciences collaborated with the Kapl'olani Community College, Chaminade University, the Chinese Community Action Coalition and Child and Family Service.

Local bilingual college students serve as tutors (during a 10-week session) for Chinese immigrants to help them pass their citizenship exams. The immigrants are recruits by visiting adult education classes, through Chinese radio programs, flyers, and Chinese language newspapers. The Chinese Community Action Coalition provides the curriculum and resources such as Scrabble, books, word-picture matching games, and card games for constructing simple English sentences.

The tutorial sessions focus on passing the INS exam and conversational English. Many of the immigrants are senior citizens. The classes are held in Chinatown. Since the project began, about 1,000 immigrants and refugees have enrolled. Over 300 students have participated as tutors and approximately one-third of the Chinese immigrants became citizens.

Transitional House, Santa Barbara, C.A., is a facility that primarily serves homeless Hispanic women. The services are tailored to meet the needs of each family to help women and their children move from homelessness and unemployment to employment and permanent housing. The VISTAs assigned to the project are bilingual. The clientele is 60% monolingual Spanish speakers.

The VISTAs are creating a Career Development Curriculum that is fully translated into Spanish and members host seminars about immigration and consumer credit counseling services. There was a need to improve communication with clients. One of the VISTAs developed “halfsheets”, one side in Spanish, the other in English, that explain the services offered by Transition House.

The VISTAs are responsible for placement of children in daycare to enable parents to work. They accompany families to childcare providers to assist with translation and to help make the families feel at ease with placing their children in childcare.

Dated: January 9, 2001.
Wendy Zenker,
Chief Operating Officer, Corporation for National and Community Service.

[FR Doc. 01-1171 Filed 1-12-01; 8:45 am]

BILLING CODE 6050-28-U